DEPARTMENT OF VETERANS AFFAIRS

[OMB Control No. 2900-New (10-21085a-e(NR))]

Agency Information Collection Activities (Prevalence and Clinical Course of Depression Among Patients with Heart Failure) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before August 11, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-New (10-21085a-e(NR))” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-New (10-21085a-e(NR)).”

SUPPLEMENTARY INFORMATION: Title: Prevalence and Clinical Course of Depression Among Patients with Heart Failure, VA HSR&D, Nursing Research Initiative No. 05-209-3, VA Form 10-21085a-e(NR).

OMB Control Number: 2900-New (10-21085a-e(NR)).

Type of Review: Extension of a currently approved collection.

Abstract: The forms will be used to evaluate the prevalence of clinical depression and depressive symptoms among veterans with heart failure during periods of hospitalization and out patient care. The data will be used to identify the patterns of depression and to understand the temporal relationship between clinical depression, alterations in physical functions, and levels of circulating biochemical markers in heart failure patients.

An agency may not conduct or sponsor, and a person is not required to respond to a collection of information unless it displays a currently valid OMB control number. The Federal Register Notice with a 60-day comment period soliciting comments on this collection of information was published on April 28, 2008 at page 23009.

Affected Public: Individuals or households.

Estimated Annual Burden: 1,362.

a. VA Form 10-21085a(NR)—18 hours.

b. VA Form 10-21085b(NR)—109 hours.

c. VA Form 10-21085c(NR)—872 hours.

d. VA Form 10-21085d(NR)—218 hours.

e. VA Form 10-21085e(NR)—145 hours.

Estimated Average Burden Per Respondent:

a. VA Form 10-21085a(NR)—5 minutes.

b. VA Form 10-21085b(NR)—5 minutes.

c. VA Form 10-21085c(NR)—40 minutes.

d. VA Form 10-21085d(NR)—10 minutes.

e. VA Form 10-21085e(NR)—10 minutes.

Frequency of Response: On occasion.

Estimated Number of Respondents: 5,014.

a. VA Form 10-21085a(NR)—218.

b. VA Form 10-21085b(NR)—1,308.

c. VA Form 10-21085c(NR)—1,308.

d. VA Form 10-21085d(NR)—1,308.

e. VA Form 10-21085e(NR)—872.

Dated: June 30, 2008.
By direction of the Secretary.
Denise McLamb,
Program Analyst, Records Management Service.

[FR Doc. E8-15616 Filed 7-9-08; 8:45 am]

BILLING CODE 8320-01-P